DEPARTMENT OF COMMERCE

Foreign-Trade Zones Board

[Docket 34-2010]

Foreign-Trade Zone 14—Little Rock, Arkansas Application for Reorganization/Expansion Under Alternative Site Framework

An application has been submitted to the Foreign-Trade Zones (FTZ) Board (the Board) by the Arkansas Economic Development Commission, grantee of FTZ 14, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 11, 2010.

FTZ 14 was approved by the Board on October 4, 1972 (Board Order 90, 37 FR 24853, 11/22/72), relocated on March 23, 1979 (Board Order 143, 43 FR 19502, 4/3/79), and expanded on February 3, 1999 (Board Order 1022, 64 FR 7853-7854, 2/17/99).

The current zone project includes the following sites: Site 1 (759.48 acres)—located at the Little Rock Port Industrial Park; Site 2 (969.394 acres)—industrial area located adjacent to Site 1 at the southeast corner of the Little Rock Port Industrial Park, on the McClellan-Kerr Arkansas River Navigation System, Little Rock; and, Site 3 (191.54 acres)—located at the Little Rock National Airport, Adams Field, Little Rock.

The grantee's proposed service area under the ASF would be Clark, Conway, Dallas, Faulkner, Garland, Grant, Hot Spring, Jefferson, Lonoke, Montgomery, Nevada, Pike, Pulaski, Pope, Saline, Yell and White Counties, Arkansas. If approved, the grantee would be able to serve sites throughout the service area based on companies' needs for FTZ designation. The proposed service area is within and adjacent to the Little Rock Customs and Border Protection port of entry.

The applicant is requesting authority to reorganize its existing zone project to include all of the existing sites as “magnet” sites and expand Site 1 to include an additional 155 acres at the Little Rock Industrial Park (new Site 1 total—914.48 acres). The ASF allows for the possible exemption of one magnet site from the “sunset” time limits that generally apply to sites under the ASF, and the applicant proposes that Site 1 be so exempted. The applicant is also requesting approval of the following initial “usage-driven” site: Proposed Site 4 (16.4 acres)—Timex Corporation, 1302 Pike Avenue, North Little Rock. Because the ASF only pertains to establishing or reorganizing a general-purpose zone, the application would have no impact on FTZ 14's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is July 19, 2010. Rebuttal comments in response to material submitted during the foregoing period may be submitted during the subsequent 15-day period to August 2, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, Camille Evans at Camille.Evans@trade.gov or (202) 482-2350.

Dated: May 12, 2010.
Andrew McGilvray,
Executive Secretary.

[FR Doc. 2010-11982 Filed 5-18-10; 8:45 am]

BILLING CODE 3510-DS-P